DEPARTMENT OF VETERANS AFFAIRS

[OMB Control No. 2900-0524]

Proposed Information Collection Activity: Proposed Collection; Comment Request

AGENCY: Office of Policy and Planning, Department of Veterans Affairs.

ACTION: Notice.

SUMMARY: The Office of Policy and Planning, Department of Veterans Affairs (VA), is announcing an opportunity for public comment on the proposed collection of certain information by the agency. Under the Paperwork Reduction Act (PRA) of 1995, Federal agencies are required to publish notice in the Federal Register concerning each proposed collection of information, including each proposed extension of a previously approved collection, and allow 60 days for public comment in response to the notice. This notice solicits comments on the information needed to document pre-employment screening and special background checks for applicants seeking employment as VA police officers.

DATES: Written comments and recommendations on the proposed collection of information should be received on or before August 4, 2003.

ADDRESSES: Submit written comments on the collection of information to Christopher Price, Department of Veterans Affairs, 4300 West 7th Street, Little Rock AR 72205 or e-mail Christopher.price@mail.va.gov. Please refer to “OMB Control No. 2900-0524” in any correspondence.

FOR FURTHER INFORMATION CONTACT: Christopher Price at (501) 257-4160.

SUPPLEMENTARY INFORMATION: Under the PRA of 1995 (Pub. L. 104-13; 44 U.S.C., 3501—3520), Federal agencies must obtain approval from the Office of Management and Budget (OMB) for each collection of information they conduct or sponsor. This request for comment is being made pursuant to section 3506(c)(2)(A) of the PRA.

With respect to the following collection of information, the Office of Security and Law Enforcement invites comments on: (1) Whether the proposed collection of information is necessary for the proper performance of VA's functions, including whether the information will have practical utility; (2) the accuracy of the Office of Security and Law Enforcement's estimate of the burden of the proposed collection of information; (3) ways to enhance the quality, utility, and clarity of the information to be collected; and (4) ways to minimize the burden of the collection of information on respondents, including through the use of automated collection techniques or the use of other forms of information technology.

Title: VA Police Officer Pre-Employment Screening Checklist, VA Form 0120.

OMB Control Number: 2900-0524.

Type of Review: Extension of a currently approved collection.

Abstract: VA Form 0120 involves a thorough pre-employment screening and special background checks for police officer applicants. Prior to employment of a qualified applicant, each VA medical center is required to conduct a FBI arrest record inquiry and to contact listed former employers for information. The form is completed by each VA facility and serves as a record of pre-employment screening to determine the qualification and suitability of the applicant. It is the policy of VA that no person be employed as a VA police officer who has been convicted of a serious crime or whose history reflects a disregard for laws and regulations, questionable character, or a pattern of misconduct or poor work habits.

Affected Public: Business or other for-profit, and State, Local or Tribal Governments.

Estimated Annual Burden: 250 hours.

Estimated Average Burden Per Respondent: 10 minutes.

Frequency of Response: On occasion.

Estimated Number of Respondents: 1,500.

Dated: May 16, 2003.
By direction of the Secretary.
Jacqueline Parks,
IT Specialist, Records Management Service.

[FR Doc. 03-13896 Filed 6-2-03; 8:45 am]

BILLING CODE 8320-01-P